CHEMICAL SAFETY AND HAZARD INVESTIGATION BOARD

Sunshine Act Meeting

TIME AND DATE: April 22, 2014, 5:30 p.m.-8:30 p.m. CDT.

PLACE: Southside Community Center 205 Tokio Road, West, TX 76691.

STATUS: Open to the public.

MATTERS TO BE CONSIDERED: The Chemical Safety and Hazard Investigation Board (CSB) will convene a public meeting on April 22, 2014, starting a 5:30 p.m. at the Southside Community Center, 205 Tokio Rd, West, TX 76691. At the public meeting, the board will hear preliminary findings from the CSB's investigation team into the April 17, 2013, fire and massive explosion which occurred at the West Fertilizer Company/Adair Grain facility in West, Texas, that killed 14 people and injuring injured more than 250 neighboring residents and emergency responders. Twelve of the fatalities were volunteer firefighters and two were members of the public.

The sudden blast at the facility led to the widespread damage and the destruction of over 150 buildings including an apartment complex, three schools, a nursing home, and a hospital in the surrounding community.

This public meeting is intended to provide the residents of West, TX and other members of the public with information into how this incident occurred and how similar future incidents can be prevented or mitigated. The CSB has invited several stakeholders in the emergency response community to provide their insights into this incident.

Following the staff presentation and expert panel presentation the Board will hear comments from the public. All staff presentations are preliminary and are intended solely to allow the Board to consider in a public forum the issues and factors involved in this case. No factual analyses, conclusions, or findings presented by staff should be considered final.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation. The time provided for public statements will depend upon the number of people who wish to speak. Speakers should assume that their presentations will be limited to five minutes or less, but commenters may submit written statements for the record.

Contact Person for Further Information

Hillary J. Cohen, Communications Manager, hillary.cohen@csb.gov or (202) 446-8094. General information about the CSB can be found on the agency Web site at: www.csb.gov.

Dated: April 7, 2014.
Rafael Moure-Eraso,
Chairperson.

[FR Doc. 2014-08325 Filed 4-9-14; 4:15 pm]

BILLING CODE 6350-01-P